DEPARTMENT OF COMMERCE

Foreign-Trade Zones Board

[B-24-2016]

Foreign-Trade Zone (FTZ) 22—Chicago, Illinois; Notification of Proposed Production Activity; Omron Automotive Electronics, Inc.; (Automotive Electronic Components); St. Charles, Illinois

Omron Automotive Electronics, Inc. (Omron), an operator of FTZ 22, submitted a notification of proposed production activity to the FTZ Board for its facility located in St. Charles, Illinois, within FTZ 22. The notification conforming to the requirements of the regulations of the FTZ Board (15 CFR 400.22) was received on April 14, 2016.

The Omron facility is located within Site 41 of FTZ 22. The facility is used for the production of automotive electronic components. Pursuant to 15 CFR 400.14(b), FTZ authority would be limited to the specific foreign-status components and specific finished products described in the submitted notification (as described below) and subsequently authorized by the FTZ Board.

Production under FTZ procedures could exempt Omron from customs duty payments on the foreign status components used in export production. On its domestic sales, Omron would be able to choose the duty rate during customs entry procedures that applies to electronic control units (body control, transmission, wiper system), controllers (fuel pump, alarm, tire pressure), electronic modules, assemblies (tire pressure monitoring, transmitters, electrical switches (accessory, power seat, power window), knobs and trim pieces, and actuators (duty rate ranges from free to 6.5%) for the foreign status components noted below. Customs duties also could possibly be deferred or reduced on foreign status production equipment.

The materials and components sourced from abroad include: Resistors; actuators; housing subassemblies; adhesives; antennas; armatures; plastic bags; switches; bobbins; steel balls; barrels with ribs; plastic bases/trays/bags/plates/plungers/actuator posts; base covers/substrates/assemblies; bases; knobs; bezels; boxes and related spacers; buttons; brackets; buzzers; ceramic chips; capacitors; cages for batteries; cartons; cases; chipboards and pads; desiccants; clips; connectors; coils; coil leads/terminals/assemblies; contacts (rivet, terminal); core pins; covers; central processing units (CPUs); electronic control units (ECUs); elastomeric pads; plastic emblems; encoders; epoxy resins; electric filters; foam sheets/dividers/pads; foil with adhesive; followers; frets; fuses; crystal oscillators; transformers; integrated circuits; resistors; dampers; double face pads; detents; diodes; door lock packing inserts; garnishes; gimbles; rubber grommets; labels; handles; heat sinks; housing blocks/assemblies; housings; integrated circuits; light emitting diodes; immobilizers/anti-theft systems; inductors; inner cases; inserts; inverters; jewels; transmitter keypads and keyrings; logic chips; lamps; lean containers; levers; lids; light guides; linear integrated circuits; semiconductors; magnet wires and relays; multi-switch units; power supplies; printed circuit boards; padding and pads; paddles (steering wheel); plastic panels/partitions; pins (coil, connector; spring); pipe lights; packaging boxes/lids/inserts/chips/pads; printed wiring boards; resistor chips; resistor glaze metal; relays; retainers; plastic rings/screws/spacers/spools/seals/sliders/seats/clips/bezels/tape; seals (nitrile, rubber); heat shields; shrouds; shunts; silicone fluid compound; surface mount technology resistors; electrical (socket) outlets; springs; striker assemblies; subassemblies (base, case, power breaker, dome, window knob); substrates; supply bezels/brackets/clips/screws/head bolts; varistors; switch assemblies; tapes; terminal/contact assemblies; terminals; thermistors; paint thinners; thumbwheels; screws; transistors; trays; upfitter subassemblies; vacform trays; wire coils; jumper wires; wireless charging units; relay yokes; and, yokes (duty rate ranges from free to 8%).

Public comment is invited from interested parties. Submissions shall be addressed to the FTZ Board's Executive Secretary at the address below. The closing period for their receipt is June 13, 2016.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov (202) 482-1378.

Dated: April 25, 2016.
Andrew McGilvray,
Executive Secretary.

[FR Doc. 2016-10242 Filed 4-29-16; 8:45 am]

BILLING CODE 3510-DS-P